CORPORATION FOR NATIONAL AND COMMUNITY SERVICE

Notice of Availability of Funds for Challenge Grants

AGENCY: Corporation for National and Community Service.

ACTION: Notice of funding availability.

SUMMARY: The Corporation for National and Community Service (hereinafter “the Corporation”) announces the availability of approximately $6,000,000 in fiscal year 2003 funds for eligible nonprofit organizations for challenge grants. The purpose of these challenge grants is to assist nonprofit organizations in securing previously untapped sources of private funds to build sustainable service and volunteer programs. Organizations receiving funds under this notice must either greatly expand services by engaging citizens in meeting community needs or offer new services through expanded citizen engagement. The funds are available for these challenge grants under authority provided of Public Law 108-7, the Omnibus Appropriations Act for Fiscal Year 2003. The Corporation anticipates making between 2 and 12 challenge grants under this announcement, with the minimum grant level of $500,000 and the maximum grant level of $3,000,000. Applicants must provide at least two dollars in private funding for every Federal dollar. Matching funds must be cash. The Corporation will make awards covering a period not to exceed one year. Eligible nonprofit organizations, including those that have not applied for federal assistance from the Corporation in the past, as well as interested faith-based and community-based organizations, are encouraged to apply. The Corporation requires applicants to apply through its eGrant electronic system.

DATES: The deadline for applications is 11:59 p.m. Eastern Daylight Time on April 10, 2003. However, if for some legitimate reason it is necessary for you to submit a paper application, we must receive it by 5 p.m. on April 10, 2003. We anticipate announcing selections under this Notice no later than June 9, 2003.

ADDRESSES: You may access eGrants, the integrated, secure, Web-based system that we require for applications, through our Web site at http://www.cns.gov/egrants/index.html. If you cannot submit an application electronically, then you must obtain the Corporation's approval to submit a paper application. Submit paper application to the following address: Corporation for National and Community Service, 1201 New York Avenue NW., Box C.G., Washington, DC 20525. Due to delays in delivery of regular mail to government offices, there is no guarantee that a paper application sent by regular mail will arrive in time to be considered. We therefore suggest that, if submitting a paper application, you use U.S.P.S. priority mail or a commercial overnight delivery service to make sure that you meet the deadline. We will not accept an application that is submitted via facsimile.

FOR FURTHER INFORMATION CONTACT: Thea Kachoris at (312) 353-5056 (tkachoris@cns.gov). This Notice, with the complete program application guidelines included, is available on the Corporation's Web site, at: http://www.cns.gov/whatshot/notices.html. For a printed copy of any of these materials, please contact Thea Kachoris at (312) 353-5056 (tkachoris@cns.gov). The TDD number is 202-565-2799. Upon request, this information will be made available in alternate formats for people with disabilities.

Dated: March 19, 2003.
Marlene Zakai,
Manager, Challenge Grants.

[FR Doc. 03-6968 Filed 3-24-03; 8:45 am]

BILLING CODE 6050-$$-P